DEPARTMENT OF AGRICULTURE

Submission for OMB Review; Comment Request

February 27, 2018

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725—17th Street NW, Washington, DC 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by April 2, 2018. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Field Crops Objective Yield.

OMB Control Number: 0535-0088.

Summary of Collection: The primary function of the National Agricultural Statistics Service (NASS) is to prepare and issue current official State and national estimates of crop and livestock production. General authority for these data collection activities is granted under U.S. Code Title 7, Section 2204. This statute specifies the “The Secretary of Agriculture shall procure and preserve all information concerning agriculture which he can obtain . . . by the collection of statistics . . . and shall distribute them among agriculturists”. Data collected provides yield estimates for corn, cotton, potatoes, soybeans and winter wheat. In addition NASS has been contacted by several state cooperators to conduct projected yield studies for citrus, almonds, hazelnuts and walnuts. These fruit and nut surveys will be conducted through cooperative agreements with the states and will be totally funded by the individual states. The yield estimates for all of these crops are extremely important because they are used in conjunction with price data to estimate production and in making policy decisions in agricultural sectors.

Need and Use of the Information: NASS will collect information on sample fields of, corn, cotton, potatoes, soybeans, and winter wheat. The information will be used by USDA to anticipate loan receipts and pricing of loan stocks for grains. Farmers and businesses use the production estimates in marketing decisions to evaluate expected prices and to determine when to sell. The fruit and nut data will be used by the State Departments of Agriculture and commodity marketing boards to make informed decisions concerning the stocks and marketing of these commodities.

Description of Respondents: Farms and businesses or other for-profit operations.

Number of Respondents: 15,850.

Frequency of Responses: Reporting: Monthly during growing season or annually.

Total Burden Hours: 5,456.

Ruth Brown,
Departmental Information Collection Clearance Officer.

[FR Doc. 2018-04292 Filed 3-1-18; 8:45 am]

BILLING CODE 3410-20-P